DEPARTMENT OF COMMERCE

International Trade Administration

[A-583-856]

Corrosion-Resistant Steel Products From Taiwan: Notice of Third Amended Final Determination of Sales at Less than Fair Value Pursuant to Court Decision and Partial Exclusion From Antidumping Duty Order; Correction

AGENCY: Enforcement and Compliance, International Trade Administration, Department of Commerce.

ACTION: Notice; Correction.

SUMMARY: The U.S. Department of Commerce (Commerce) published a notice in the Federal Register of August 25, 2023, in which it issued the third amended final determination of sales at less than fair value (LTFV) concerning certain corrosion resistant steel products (CORE) from Taiwan. This notice inadvertently listed the incorrect applicable date of July 3, 2023; the correct applicable date is August 25, 2023, the date of publication of the third amended final notice in the Federal Register.

FOR FURTHER INFORMATION CONTACT: Brendan Quinn, AD/CVD Operations, Office III, Enforcement and Compliance, International Trade Administration, U.S. Department of Commerce, 1401 Constitution Avenue NW, Washington, DC 20230; telephone: (202) 482-5848.

SUPPLEMENTARY INFORMATION:

Correction

In the Federal Register of August 25, 2023, in FR Doc number 2023-18386, on page 58246, in the first column, correct the DATES caption to read: Applicable August 25, 2023.

Background

On June 23, 2023, the U.S. Court of International Trade (CIT) sustained Commerce's second remand redetermination concerning the LTFV investigation of CORE from Taiwan. Accordingly, Commerce issued a third amended final determination for the LTFV investigation of CORE from Taiwan.¹ In the third amended final Federal Register notice, Commerce inadvertently listed July 3, 2023 as the applicable date of the notice. However, with the issuance of this notice of correction, we confirm that the correct applicable date of the third amended final determination is August 25, 2023 (the initial date of publication of the third amended final determination notice in the Federal Register).

¹ See Corrosion-Resistant Steel Products from Taiwan: Notice of Third Amended Final Determination of Sales at Less Than Fair Value Pursuant to Court Decision and Partial Exclusion from Antidumping Duty Order, 88 FR 58245 (August 25, 2023).

Notification to Interested Parties

This notice is issued and published in accordance with sections 516A(c)(1) and (e) and 735(d) of the Tariff Act of 1930, as amended.

Dated: September 15, 2023.
Lisa W. Wang,
Assistant Secretary for Enforcement and Compliance.

[FR Doc. 2023-20482 Filed 9-20-23; 8:45 am]

BILLING CODE 3510-DS-P